DEPARTMENT OF THE INTERIOR

Bureau of Reclamation

Time Extension To Accept Proposals, Select One Lessee, and Contract for Hydroelectric Power Development at the Pueblo Dam River Outlet, a Feature of the Fryingpan-Arkansas Project (Fry-Ark Project), Colorado

AGENCY: Bureau of Reclamation, Interior.

ACTION: Notice of an extension for accepting proposals.

SUMMARY: The Bureau of Reclamation is extending the time period for accepting written proposals detailed in the Notice of Intent to Accept Proposals, Select One Lessee, and Contract for Hydroelectric Power Development at the Pueblo Dam River Outlet, a feature of the Fry-Ark Project, Colorado. This notice was originally published in the Federal Register on April 20, 2011 (76 FR 22143). The due date was originally to end on August 19, 2011.

DATES: A written proposal and seven copies must be submitted on or before 12 p.m. (MDT), on October 21, 2011. A proposal will be considered timely only if it is received in the office of the Lease of Power Privilege Coordinator by or before 12 p.m. (MDT) on the designated date. Interested entities are cautioned that delayed delivery to this office due to failures or misunderstandings of the entity and/or of mail, overnight, or courier services will not excuse lateness and, accordingly, are advised to provide sufficient time for delivery. Late proposals will not be considered.

ADDRESSES: Send written proposals and seven copies to Mr. George Gliko, Lease of Power Privilege Coordinator (GP-2200), Bureau of Reclamation, Great Plains Regional Office (GP-2200), P.O. Box 36900, Billings, MT 59107-6900.

FOR FURTHER INFORMATION CONTACT: Mr. George Gliko at (406) 247-7651.

SUPPLEMENTARY INFORMATION: All information contained in the original Federal Register notice remains in effect, except for the extension of time for accepting proposals.

Dated: July 13, 2011.
Michael J. Ryan,
Regional Director.

[FR Doc. 2011-19617 Filed 8-2-11; 8:45 am]

BILLING CODE 4310-MN-P